DEPARTMENT OF ENERGY

Environmental Management Site-Specific Advisory Board, Savannah River Site

AGENCY: Department of Energy.

ACTION: Notice of Open Meeting.

SUMMARY: This notice announces a meeting of the Environmental Management Site-Specific Advisory Board (EM SSAB), Savannah River Site. The Federal Advisory Committee Act (Pub. L. 92-463, 86 Stat. 770) requires that public notice of this meeting be announced in the Federal Register.

DATES: Monday, November 16, 2009, 1 p.m.-5 p.m. Tuesday, November 17, 2009, 8:30 a.m.-4 p.m.

ADDRESSES: Marriott Hotel and Suites, Two Tenth Street, Augusta, GA 30901.

FOR FURTHER INFORMATION CONTACT: Sheron Smith, Office of External Affairs, Department of Energy, Savannah River Operations Office, P.O. Box A, Aiken, SC 29802; Phone: (803) 952-9480.

SUPPLEMENTARY INFORMATION: Purpose of the Board: The purpose of the Board is to make recommendations to DOE in the areas of environmental restoration, waste management, and related activities.

Tentative Agenda

Monday, November 16, 2009

1 p.m. Combined Committee Session

5 p.m. Adjourn

Tuesday, November 17, 2009

8:30 a.m. Approval of Minutes, Agency Updates

Public Comment Session

Chair and Facilitator Updates

Strategic and Legacy Management Committee Report

Public Comment Session

12 p.m. Lunch Break

1 p.m. Waste Management Committee Report

Nuclear Materials Committee Report

Facility Disposition and Site

Remediation Committee Report

Administrative Committee Report

Public Comment Session

4 p.m. Adjourn

If needed, time will be allotted after public comments for items added to the agenda and administrative details. A final agenda will be available at the meeting Monday, November 16, 2009.

Public Participation: The EM SSAB, Savannah River Site, welcomes the attendance of the public at its advisory committee meetings and will make every effort to accommodate persons with physical disabilities or special needs. If you require special accommodations due to a disability, please contact Sheron Smith at least seven days in advance of the meeting at the phone number listed above. Written statements may be filed with the Board either before or after the meeting. Individuals who wish to make oral statements pertaining to agenda items should contact Sheron Smith's office at the address or telephone listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: Minutes will be available by writing or calling Sheron Smith at the address or phone number listed above. Minutes will also be available at the following Web site: http://www.srs.gov/general/outreach/srs-cab/srs-cab.html.

Issued at Washington, DC, on October 26, 2009.
Rachel Samuel,
Deputy Committee Management Officer.

[FR Doc. E9-26450 Filed 11-3-09; 8:45 am]

BILLING CODE 6450-01-P